DEPARTMENT OF HEALTH AND HUMAN SERVICES

National Institutes of Health

Prospective Grant of Exclusive License: “Antitumor Macrocyclic Lactones, Compositions and Methods of Use” and “Vacuolar-Type (H+)-ATPase-Inhibiting Compounds, Compositions, and Uses Thereof”

AGENCY: National Institutes of Health, Public Health Service, DHHS.

ACTION: Notice.

SUMMARY: This is notice, in accordance with 35 U.S.C. § 209 (c) (1) and 37 CFR § 404.7 (a) (1) (i), that the National Institutes of Health, Department of Health and Human Services, is contemplating the grant of an exclusive license to practice the inventions embodied in U.S. Patent Application 60/053,784 entitled, “Antitumor Macrocyclic Lactones, Compositions and Methods of Use” filed on July 25, 1997; U.S. Patent Application 60/122,953 and 60/169,564 entitled, “Vacuolar-Type (H+)-ATPase-Inhibiting Compounds, Compositions, and Uses Thereof” filed on March 5, 1999 and December 8, 1999 respectively to BioChem Pharma Inc. of Quebec, Canada. The patent rights in these inventions have been assigned to the United States of America.

The prospective exclusive license territory will be worldwide and the field of use may be limited to composition of antitumor macrocyclic lactones and their uses as cancer therapeutic in humans.

DATES: Only written comments and/or license applications which are received by the National Institutes of Health on or before July 31, 2000 will be considered.

ADDRESSES: Requests for copies of the patent, inquiries, comments and other materials relating to the contemplated exclusive license should be directed to: Girish C. Barua, Ph.D., Technology Licensing Specialist, Office of Technology Transfer, National Institutes of Health, 6011 Executive Boulevard, Suite 325, Rockville, MD. 20852-3804. Telephone: (301) 496-7056, ext. 263; Facsimile (301) 402-0220; E-mail BaruaG@od.nih.gov.

SUPPLEMENTARY INFORMATION: The U.S. Patent Application 60/053,784 claims a series of macrocyclic lactones based on compounds isolated from certain sponges and tunicates collected from Western Australia. The U.S. Patent Applications 60/122,953 and 60/169,564 describe inventions relating to vacuolar-type (H+)-ATPase-inhibitory activity of macrocyclic lactones. Vacuolar-type ATPases (V-ATPases) have been described as a universal proton pump which are important for a myriad of physiological functions such as sorting of membrane and organellar proteins; proinsulin conversion; neurotransmitter uptake, receptor recycling, and cellular degradative processes. Licensee of these inventions will be required to comport with all applicable federal and country-of-collection policies relating to biodiversity.

The prospective exclusive license will be royalty-bearing and will comply with the terms and conditions of 35 U.S.C. § 209 and 37 CFR 404.7. The prospective exclusive license may be granted unless within sixty (60) days from the date of this published notice, the NIH receives written evidence and argument that establish that the grant of the license would not be consistent with the requirements of 35 U.S.C. § 209 and 37 CFR 404.7.

Applications for a license in the field of use filed in response to this notice will be treated as objections to the grant of the contemplated exclusive license. Comments and objections submitted to this notice will not be made available for public inspection and, to the extent permitted by law, will not be released under the Freedom of Information Act, 5 U.S.C. § 552.

Dated: May 23, 2000.
Jack Spiegel,
Director, Division of Technology Development and Transfer, Office of Technology Transfer.

[FR Doc. 00-13732 Filed 5-31-00; 8:45 am]

BILLING CODE 4140-01-P